DEPARTMENT OF TRANSPORTATION

Federal Aviation Administration

Receipt of Noise Compatibility Program Amendment; Austin-Bergstrom International Airport, Austin, TX

AGENCY: Federal Aviation Administration, DOT.

ACTION: Notice.

SUMMARY: The Federal Aviation Administration (FAA) announces that it is reviewing a proposed amendment (second) for the noise compatibility program that was submitted for Austin-Bergstrom International Airport under the provisions of Title 49, U.S.C. Chapter 475 (hereinafter referred to as “Title 49”) and 14 CFR part 150 by the city of Austin. This program was submitted subsequent to a determination by the FAA that associated noise exposure maps submitted under 14 CFR part 150 for Austin-Bergstrom International Airport were in compliance with applicable requirements effective on April 29, 2000. The original noise compatibility program was approved on November 7, 2000, and subseqently amended on February 11, 2004. The proposed update to the noise compatibility program will be approved or disapproved on or before August 10, 2005.

DATES: The effective date of the start of the FAA's review of the noise compatibility program is February 11, 2005. The public comment period ends April 10, 2005.

FOR FURTHER INFORMATION CONTACT: Mr. Paul E. Blackford, Department of Transportation, Federal Aviation Administration, Fort Worth, Texas, 76193-0652, (817) 222-5607. Comments on the proposed noise compatibilty program should also be submitted to the above office.

SUPPLEMENTARY INFORMATION: This notice announces that the FAA is reviewing a proposed update to the existing noise compatibility program for Austin-Bergstrom International Airport, which will be approved or disapproved on or before August 10, 2005. This notice also announces the availability of this program for public review and comment.

An airport operator who has submitted noise exposure maps that are found by the FAA to be in compliance with the requirements of Federal Aviation Regulations (FAR) part 150, promulgated ppursuant to Title 49, may submit a noise compatibility program for FAA approval, which sets forth the measures the operator has taken or proposes for the reduction of existing noncompatible uses and for the prevention of the introduction of additional noncompatible uses.

On April 20, 1999, the FAA published its approval of noise exposure maps for the Augstin-Bergstrom International Airport in the Federal Register. On May 25, 2000, the FAA published its approval of a final 2004 noise exposure map for the Austin-Bergstrom International Airport in the Federal Register. The FAA approved the original noise compatibility program on November 7, 2000, produced during Austin-Bergstrom International Airport, austin, Texas Part 150 Noise Compatibility Study.

The FAA received an update to the noise compatibility program, and published its intent to review in the August 26, 2003, Federal Register. The FAA approved the updated noise compatibility program on February 11, 2004.

The FAA has formally received a second update to the noise compatibility program for Austin-Bergstrom International Airport. Preliminary review of the submitted material indicates that it conforms to the requirements for the submittal of noise exposure programs, but that further review will be necessary prior to approval or disapproval of the program. The formal review period, limited by law to a maximum of 180 days, will be completed on or before August 10, 2005.

The FAA's detailed evaluation will be conducted under the provisions of 14 CFR part 150, section 150.33. The primary considerations in the evaluation process are whether the proposed measures may reduce the level of aviation safety, create an undue burden on interstate or foreign commerce, or be reasonably consistent with obtaining the goal of reducing existing noncompatible land uses and preventing the introduction of additional noncompatible land uses.

Interested persons are invited to comment on the proposed program with specific reference to these factors. All comments, other than those properly addressed to local land use authorities, will be considered by the FAA to the extent practicable. Copies of the notice exposure maps, the FAA's evaluation of the maps, and the proposed noise compatibility program are available for examination at the following locations:

Federal Aviation Administration, Airports Division, 2601 Meacham Boulevard, Forth Worth, Texas 76137.

Austin-Bergstrom International Airport, City of Austin, Aviation Department, 3600 Presidential Blvd., Austin, Texas 78719.

Questions may be directed to the individual named above under the heading, FOR FURTHER INFORMATION CONTACT.

Dated: Issued in Forth Worth, Texas, February 11, 2005.
D. Cameron Bryan,
Acting Manager, Airports Division.

[FR Doc. 05-3111 Filed 2-17-05; 8:45 am]

BILLING CODE 4910-13-M